DEPARTMENT OF AGRICULTURE

National Agricultural Statistics Service

Notice of Opportunity To Submit Content Request for the Agricultural Energy Program Surveys

AGENCY: National Agricultural Statistics Service.

ACTION: Notice and request for stakeholder input.

SUMMARY: The National Agricultural Statistics Service (NASS) is currently conducting the 2009 On-farm Renewable Energy Production (OREP) survey as a follow-on to the 2007 Census of Agriculture. Respondents who answered that they generated energy or electricity in 2007 are eligible for the follow-on survey to determine types of selected energy produced and associated information. NASS is currently accepting stakeholder feedback on future energy related topics and questionnaire content for development of an annual agricultural energy survey.

DATES: Comments on this notice must be received by August 2, 2010 to be assured of consideration.

ADDRESSES: Requests must address items listed in the Supplementary Information section below. Please submit requests online at: http://www.nass.usda.gov/energysurvey/ or via mail to: USDA-NASS, Energy Content Team, P.O. Box 27767, Raleigh, NC 27611; or fax to: 919-856-4139. If you have any questions, send an e-mail to: energyteam@nass.usda.gov or call 1-800-727-9540.

FOR FURTHER INFORMATION CONTACT: Joseph T. Reilly, Associate Administrator, National Agricultural Statistics Service, U.S. Department of Agriculture, (202) 720-4333, Fax: 202-720-9013, or e-mail to: HQ_OA@nass.usda.gov.

SUPPLEMENTARY INFORMATION: The current On-Farm Renewable Energy Production survey is being conducted as a follow-on survey to the 2007 Census of Agriculture. In future years, annual surveys will measure changes within this sector of the farming industry and address other critical agricultural issues related to energy production and use. NASS is seeking input on ways to improve future surveys and ensure that new data collections address appropriate topics. Current plans for the expanded annual energy survey, including a link to the 2009 On-Farm Renewable Energy Production survey questionnaire, may be viewed on-line at: http://www.nass.usda.gov/energysurvey/. Click on “Review energy program plans”.

Recommendations which propose new questions for NASS's annual Agricultural Energy Program in the future must address the following justification categories:

1. What data are needed?

2. Why are the data needed?

3. At what geographic level are the data needed? (U.S., State, County, other)

4. Who will use these data?

5. What decisions will be influenced with these data?

6. What surveys have used the proposed question before; what testing has been done on the question; and what is known about its reliability and validity.

7. Draft of the recommended question.

All responses to this notice will become a matter of public record and be summarized and considered by NASS in preparing the survey questionnaires for OMB approval.

Signed at Washington, DC, June 3, 2010.
Joseph T. Reilly,
Associate Administrator.

[FR Doc. 2010-14842 Filed 6-18-10; 8:45 am]

BILLING CODE 3410-20-P